DEPARTMENT OF HEALTH AND HUMAN SERVICES

National Institutes of Health

Center for Scientific Review; Amended Notice of Meeting

Notice is hereby given of a change in the meeting of the Gene and Drug Delivery Systems Study Section, October 16, 2013, 08:00 a.m. to October 17, 2013, 05:00 p.m., Serrano Hotel, 405 Taylor Street, San Francisco, CA 94102, which was published in the Federal Register on September 17, 2013, 78 FR 180 Pgs. 57168-57169.

The meeting will be held at the Hyatt Regency Hotel, 7400 Wisconsin Ave., Bethesda, MD 20814.

The meeting will start on December 11, 2013 at 7:00 p.m. and end December 12, 2013 at 5:00 p.m. The meeting is closed to the public.

Dated: October 29, 2013.
Michelle Trout,
Program Analyst, Office of Federal Advisory Committee Policy.

[FR Doc. 2013-26234 Filed 11-1-13; 8:45 am]

BILLING CODE 4140-01-P